DEPARTMENT OF DEFENSE

Office of the Secretary

[Transmittal Nos. 11-33]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-33 with attached transmittal, policy justification, and Sensitivity of Technology.

Dated: September 2, 2011.
Aaron Siegel,
Alternate OSD Federal Register Liaison Officer, Department of Defense.

BILLING CODE 5001-06-P

BILLING CODE 5001-06-C

Notice of Proposed Issuance of Letter of Offer Pursuant to Section 36(b)(1) of the Arms Export Control Act, as amended

(i) Prospective Purchaser: Norway.

(ii) Total Estimated Value:

Major Defense Equipment * | $45 million
Other | $50 million
Total | $95 million
* As defined in Section 47(6) of the Arms Export Control Act.

(iii) Description and Quantity or Quantities of Articles or Services under Consideration for Purchase: Procurement and installation of 4 AN/USQ-78B Acoustic Processor Technology Refresh (APTR), 4 AN/ASQ-227 Aircraft Mission Computers, and 2 Tactical Mobile Acoustic Support Systems on four Royal Norwegian Air Force P-3C aircraft, spare and repair parts, support and test equipment, publications and technical documentation, personnel training and training equipment, U.S. Government and contractor engineering, technical and logistics support services, and other related elements of logistical and program support.

(iv) Military Department: Navy (LCF).

(v) Prior Related Cases, if any: None.

(vi) Sales Commission, Fee, etc., Paid, Offered, or Agreed to be Paid: None.

(vii) Sensitivity of Technology Contained in the Defense Article or Defense Services Proposed to be Sold: None.

(viii) Date Report Delivered to Congress: August 30, 2011.

Policy Justification

Norway—Procure and Install Equipment on P-3C Aircraft

The Government of Norway has requested a possible sale for the procurement and installation of 4 AN/USQ-78B Acoustic Processor Technology Refresh (APTR), 4AN/ASQ-227 Aircraft Mission Computers, and 2 Tactical Mobile Acoustic Support Systems on four Royal Norwegian Air Force P-3C aircraft, spare and repair parts, support and test equipment, publications and technical documentation, personnel training and training equipment, U.S. Government and contractor engineering, technical and logistics support services, and other related elements of logistical and program support. The estimated cost is $95 million.

This proposed sale will contribute to the foreign policy and national security of the United States by helping to improve the security of a NATO ally that has been, and continues to be, an important force for economic and political stability.

The proposed sale will update hardware and ensure the sustainment of data provided to the United States as part of various data sharing agreements already in place with the Government of Norway in the area of anti-submarine warfare. Norway will have no difficulty absorbing the additional equipment into its armed forces.

The proposed sale of this equipment and support will not alter the basic military balance in the region.

The prime contractor will be Lockheed Martin Corporation in Owego, New York. Offset agreements associated with this proposed sale are expected, but at this time the specific offset agreements are undetermined and will be defined in negotiations between the purchaser and contractors.

Implementation of this proposed sale will require U.S. Government and contractor representatives to travel to Norway to participate in periodic program technical reviews, training and support visits, and maintenance and support visits semi-annually for a period of four years.

There will be no adverse impact on U.S. defense readiness as a result of this proposed sale.

[FR Doc. 2011-22930 Filed 9-7-11; 8:45 am]

BILLING CODE 5001-06-P